DEPARTMENT OF HOMELAND SECURITY

U.S. Customs and Border Protection

[CBP Dec. No. 16-16]

Expansion of Global Entry to Nine Additional Airports

AGENCY: U.S. Customs and Border Protection; Department of Homeland Security.

ACTION: General notice.

SUMMARY: Global Entry is a voluntary program that allows pre-approved participants dedicated U.S. Customs and Border Protection (CBP) processing into the United States using Global Entry kiosks located at designated airports. CBP previously announced in the Federal Register thirty-nine designated Global Entry airports. This document announces the expansion of the program to include nine additional designated Global Entry airports.

DATES: Global Entry will be available at all nine airport locations on or before April 3, 2017. The exact starting date for each airport location will be announced on the CBP Global Entry Web site, http://www.globalentry.gov.

FOR FURTHER INFORMATION CONTACT: Garret A. Conover, Office of Field Operations, (202) 325-4062, Garret.A.Conover@cbp.dhs.gov.

SUPPLEMENTARY INFORMATION:

Background

Global Entry Program

Global Entry is a voluntary program that allows for dedicated CBP processing of pre-approved travelers arriving in the United States at Global Entry kiosks located at designated airports. In a final rule published in the Federal Register (77 FR 5681) on February 6, 2012, CBP promulgated the regulation (8 CFR 235.12) to establish Global Entry as an ongoing voluntary regulatory program. Section 235.12 contains a description of the program, the eligibility criteria, the application and enrollment process, and redress procedures. Travelers who wish to participate in Global Entry must apply via the Global On-Line Enrollment System (GOES) Web site, https://goes-app.cbp.dhs.gov, and pay the applicable fee. Applications for Global Entry must be completed and submitted electronically.

In the above-referenced final rule that established the Global Entry program, Global Entry was initially limited to twenty airports. The rule provides that any expansion of the Global Entry program to new airports will be by publication in the Federal Register and by posting the information at http://www.globalentry.gov. See 8 CFR 235.12(c).

In a notice published in the Federal Register (77 FR 17492) on March 26, 2012, Global Entry was expanded to include four additional designated airports. In a notice published in the Federal Register (78 FR 38069) on June 25, 2013, Global Entry was expanded to include eight additional designated airports. Finally, in a notice published in the Federal Register (80 FR 1510) on January 12, 2015, Global Entry was expanded to include an additional seven airports.

The thirty-nine airports previously designated for Global Entry, listed alphabetically by state, and then city, include:

• Ted Stevens Anchorage International Airport, Anchorage, Alaska (ANC);

• Phoenix Sky Harbor International Airport, Phoenix, Arizona (PHX);

• Los Angeles International Airport, Los Angeles, California (LAX);

• San Diego International Airport, San Diego, California (SAN);

• San Francisco International Airport, San Francisco, California (SFO);

• John Wayne Airport, Santa Ana, California (SNA);

• Denver International Airport, Denver, Colorado (DEN);

• Ft. Lauderdale Hollywood International Airport, Fort Lauderdale, Florida (FLL), including the General Aviation Facility private aircraft terminal;

• Miami International Airport, Miami, Florida (MIA);

• Orlando International Airport, Orlando, Florida (MCO);

• Sanford-Orlando International Airport, Sanford, Florida (SFB);

• Tampa International Airport, Tampa, Florida (TPA);

• Hartsfield-Jackson Atlanta International Airport, Atlanta, Georgia (ATL);

• Honolulu International Airport, Honolulu, Hawaii (HNL);

• Chicago Midway International Airport, Chicago, Illinois (MDW);

• Chicago O'Hare International Airport, Chicago, Illinois (ORD);

• Cincinnati/Northern Kentucky International Airport, Hebron, Kentucky (CVG);

• Baltimore/Washington International Thurgood Marshall Airport, Baltimore, Maryland (BWI);

• Boston-Logan International Airport, Boston, Massachusetts (BOS);

• Detroit Metropolitan Wayne County Airport, Romulus, Michigan (DTW);

• Minneapolis-St. Paul International Airport, Minneapolis, Minnesota (MSP);

• Las Vegas-McCarran International Airport, Las Vegas, Nevada (LAS);

• Newark Liberty International Airport, Newark, New Jersey (EWR);

• John F. Kennedy International Airport, Jamaica, New York (JFK);

• Charlotte Douglas International Airport, Charlotte, North Carolina (CLT);

• Raleigh-Durham International Airport, Morrisville, North Carolina (RDU);

• Cleveland Hopkins International Airport, Cleveland, Ohio (CLE);

• Portland International Airport, Portland, Oregon (PDX);

• Philadelphia International Airport, Philadelphia, Pennsylvania (PHL);

• Pittsburgh International Airport, Pittsburgh, Pennsylvania (PIT);

• San Juan-Luis Munoz Marin International Airport, San Juan, Puerto Rico (SJU);

• Austin-Bergstrom International Airport, Austin, Texas (AUS);

• Dallas Fort Worth International Airport, Dallas, Texas (DFW);

• George Bush Intercontinental Airport, Houston, Texas (IAH);

• San Antonio International Airport, San Antonio, Texas (SAT);

• Salt Lake City International Airport, Salt Lake City, Utah (SLC);

• Washington Dulles International Airport, Sterling, Virginia (IAD);

• Seattle-Tacoma International Airport-SEATAC, Seattle, Washington (SEA);

• General Mitchell International Airport, Milwaukee, Wisconsin (MKE).

Expansion of Global Entry Program to Nine Additional Airports

CBP is designating nine additional Global Entry airports. Each of these airports will have Global Entry kiosks for the use of participants. The additional airports, listed alphabetically by state, and then city, are:

• Fairbanks International Airport, Fairbanks, Alaska (FAI);

• Oakland International Airport, Oakland, California (OAK);

• Sacramento International Airport, Sacramento, California (SMF);

• Norman Y. Mineta San Jose International Airport, San Jose, California (SJC);

• Louis Armstrong New Orleans International Airport, New Orleans, Louisiana (MSY);

• Kansas City International Airport, Kansas City, Missouri (MCI);

• Lambert-St. Louis International Airport, St. Louis, Missouri (STL);

• William P. Hobby International Airport, Houston, Texas (HOU);

• Burlington International Airport, Burlington, Vermont (BTV).

Global Entry will become operational at all nine airports on or before April 3, 2017. The exact starting dates of Global Entry at each airport location will be announced on the Web site, http://www.globalentry.gov.

Dated: September 29, 2016.
Todd C. Owen,
Executive Assistant Commissioner, Office of Field Operations.

[FR Doc. 2016-23966 Filed 10-3-16; 8:45 am]

BILLING CODE 9111-14-P